Title 3—

The President

Memorandum of January 18, 2012

Implementing Provisions of the Temporary Payroll Tax Cut Continuation Act of 2011 Relating to the Keystone XL Pipeline Permit

Memorandum for the Secretary of State

The Temporary Payroll Tax Cut Continuation Act of 2011 requires a determination, within 60 days of enactment, of whether the Keystone XL pipeline project as set forth in the permit application filed on September 19, 2008 (including amendments) (the “Keystone XL pipeline project”) would serve the national interest. The State Department had previously explained, on November 10, 2011, that it was seeking additional information concerning whether that project served the national interest, as necessary to grant the permit. Based on its experience and in order to consider relevant environmental issues and the consequences of the project on energy security, the economy, and foreign policy, the State Department indicated that its review could be complete as early as the first quarter of 2013.

I have determined, based upon your recommendation, including the State Department's view that 60 days is an insufficient period to obtain and assess the necessary information, that the Keystone XL pipeline project, as presented and analyzed at this time, would not serve the national interest.

Accordingly, by the authority vested in me as President by the Constitution and the laws of the United States including section 301 of title 3, United States Code, and in furtherance of Executive Order 13337 of April 30, 2004 to the extent compatible with this memorandum, I direct you to submit the report to the Congress as specified in section 501(b)(2) of the Temporary Payroll Tax Cut Continuation Act of 2011 and to issue a denial of the Keystone XL pipeline permit application.

This memorandum is not intended to, and does not, create any right or benefit, substantive or procedural, enforceable at law or in equity by any party against the United States, its departments, agencies, or entities, its officers, employees, or agents, or any other person.

You are hereby authorized and directed to publish this memorandum in the Federal Register.

THE WHITE HOUSE,

Washington, January 18, 2012

[FR Doc. 2012-2673

Filed 2-2-12; 11:15 am]

Billing code 4710-10-P